DEPARTMENT OF ENERGY

Federal Energy Regulatory Commission

[Docket No. ES00-19-000]

Louisiana Generating LLC; Notice of Application

March 10, 2000.

Take notice that on March 8, 2000, Louisiana Generating LLC (Generating) submitted an application under Section 204 of the Federal Power Act seeking Commission authorization of its proposed financing to acquire fossil fuel-fired electric generating facilities of Cajun Electric Power Cooperative, Inc. Generating requests authorization to incur long-term indebtedness in an amount not to exceed $850,000,000 and to guarantee repayment of not more than $850,000,000 of long-term bonds issued by its parent company, NRG South Central Generating LLC. Generating also requests a waiver of the Commission's competitive bidding and negotiated placement requirements in 18 CFR 34.2.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 23, 2000. Protests will be considered by the Commission to determine the appropriate action to be taken, but will not serve to make protestants parties to the proceedings. Any person wishing to become a party must file a motion to intervene. Copies of this filing are on file with the Commission and are available for public inspection. This filing may also be viewed on the Internet at http://www.ferc/fed.us/online/rims.htm (call 202-208-2222 for assistance).

David P. Boergers,
Secretary.

[FR Doc. 00-6600 Filed 3-16-00; 8:45 am]

BILLING CODE 6717-01-M